DEPARTMENT OF HEALTH AND HUMAN SERVICES

National Institutes of Health

Center for Scientific Review; Amended Notice of Meeting

Notice is hereby given of a change in the meeting of the Center for Scientific Review Special Emphasis Panel, June 7, 2007, 8 a.m. to June 7, 2007, 5 p.m. DoubleTree Hotel-Washington, DC, 1515 Rhode Island Avenue, NW., Washington, DC 20005 which was published in the Federal Register on May 9, 2007, 72 FR 26411-26412.

The meeting will be held June 7, 2007, 8 a.m. to June 8, 2007, 5 p.m. The meeting location remains the same. The meeting is closed to the public.

Dated: May 14, 2007.
Jennifer Spaeth,
Director, Office of Federal Advisory Committee Policy.

[FR Doc. 07-2486 Filed 5-18-07; 8:45 am]

BILLING CODE 4140-01-M